ENVIRONMENTAL PROTECTION AGENCY

[FRL-8215-6; EPA-HQ-OEI-2006-0634]

Amendment to a Privacy Act System of Records

AGENCY: Environmental Protection Agency (EPA).

ACTION: Notice of Amendment to a Privacy Act System of Records.

SUMMARY: Pursuant to the provisions of the Privacy Act of 1974 (5 U.S.C. 552a), the Office of Administration and Resources Management gives notice that it proposes to amend the EPA Identification Card system of records (EPA-19). The changes reflect the inclusion of photographs and fingerprints of identification card holders in the identification card system, as well as the information captured by automatic card reader machines used to gain access to EPA facilities.

DATES: Persons wishing to comment on this amended system of records may do so by October 10, 2006.

ADDRESSES: Submit your comments, identified by Docket ID No. EPA-HQ-OEI-2006-0634, by one of the following methods:

• www.regulations.gov: Follow the on-line instructions for submitting comments.

• E-mail: oei.docket@epa.gov.

• Fax: 202-566-1752.

• Mail: OEI Docket, Environmental Protection Agency, Mailcode: 2822T, 1200 Pennsylvania Ave., NW., Washington, DC 20460.

• Hand Delivery: OEI Docket, EPA/DC, EPA West Building, Room B102, 1301 Constitution Avenue, NW., Washington DC. Such deliveries are only accepted during the Docket's normal hours of operation, and special arrangements should be made for deliveries of boxed information.

Instructions: Direct your comments to Docket ID No. EPA-HQ-OEI-2006-0634. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, EPA West Building, Room B102, and 1301 Constitution Ave., NW., Washington, DC. The Public Reading Room is open from 8:30 a.m. to 4:30 p.m., Monday through Friday, excluding legal holidays. The telephone number for the Public Reading Room is (202) 566-1744, and the telephone number for the OEI Docket is (202) 566-1752.

FOR FURTHER INFORMATION CONTACT: Yvette Jackson, Chief Security Operations Branch, Security Management Division, Environmental Protection Agency, Ronald Reagan Building, MS 3206R, 1200 Pennsylvania Avenue, NW., Washington, DC 20460; telephone number: (202) 564-6352; e-mail address: jackson.yvette@epa.gov.

SUPPLEMENTARY INFORMATION:

I. General Information

This action amends the existing system of records notice for the EPA Identification Card system of records. Details regarding the system of records are contained in this Federal Register Notice. The EPA Identification Card system is the basis for issuing official U.S. Government identification cards to EPA employees and certain non-EPA employees who require access to EPA-controlled facilities; maintaining a record of all holders of identification cards, for renewal and recovery of expired cards; managing and confirming requests for and access to EPA-controlled facilities; and identifying lost and stolen identification cards. These actions effect no changes in the privacy protections of the affected category of records. Access to the system is restricted to authorized users and will be maintained in a secure, password protected computer system, in secure areas and buildings with physical access controls and environmental controls. The system is maintained by the Office of Administration and Resources Management.

Dated: August 22, 2006.
Linda A. Travers,
Acting Assistant Administrator and Chief Information Officer.

EPA-19

System Name:

EPA Identification Card Record.

System Location:

1. Security Operations Branch, Security Management Division, Environmental Protection Agency, Ronald Reagan Building, 1200 Pennsylvania Avenue, NW., Washington, DC 20460;

2. Regional EPA offices. See the appendix for regional office addresses.

Categories of Individuals Covered by the System:

EPA employees and certain non-EPA employees, including contractors and grantees, who require identification cards to access EPA controlled facilities.

Categories of Records in the System:

1. EPA Form 5110-1 EPA Identification Card Acknowledgment which contains the following information: Name, identification card credential number, height, weight, color of eyes/hair, date of birth, Social Security Number, position/title, grade, EPA office location, signature, date of issuance.

2. EPA Form 1480-39 Official U.S. Government Identification which contains the following information: Name, Social Security Number, EPA office location, date of birth, height, weight, color of eyes/hair, signature, identification card credential number, date of issuance, and photograph of person issued the identification card.

3. Photographs of individuals.

4. Information captured by automatic card reader machines used to gain access to certain EPA facilities, including the individual's name, card credential number, date and time of access request, and location of access requested.

5. Fingerprint information for individuals.

Authority for Maintenance of the System (includes any revisions or amendments):

Executive Order 12072 (Aug. 16, 1978), Federal Property and Administrative Services Act of 1949, 40 U.S.C. 121, and Executive Order 9397 (Nov. 22, 1943).

Purpose(s):

To issue official U.S. Government identification cards to EPA employees and certain non-EPA employees requiring access to EPA-controlled facilities; to maintain a record of all holders of identification cards for renewal and recovery of expired cards; to manage and confirm requests for and access to EPA-controlled facilities; and to identify lost or stolen identification cards.

Routine Uses of Records Maintained in the System, Including Categories of Users, and the Purposes of Such Uses:

General routine uses A, E, F, G, H, and K applies to this system.

Policies and Practices for Storing, Retrieving, Accessing, Retaining, and Disposing of Records in the System:

Storage:

The completed forms are kept in locked file cabinets in the Crystal City and Ronald Reagan badging offices. This system maintains records in two central command centers. These central command centers retain a record of each instance of request for access to an EPA-controlled facility. Each record indicates the time, location of card reader, and card credential number requesting access. This information can be linked to personally identifiable information using the central command center databases.

Retrievability:

Records are retrieved by subject name and identification card credential number.

Safeguards:

Computer records are maintained in a secure, password protected computer system. Paper records are maintained in locked file cabinets. All records are maintained in secure, access-controlled areas or buildings.

Retention and Disposal:

Records are retained and disposed of in accordance with EPA Records Control Schedule 627, approved by the National Archives and Records Administration.

System Manager(s) and Address:

Headquarters: Chief, Security Operations Branch, Security Management Division, Environmental Protection Agency, Ronald Reagan Building, MS3206R, and 1200 Pennsylvania Avenue, NW., Washington, DC 20460. Other locations: General Services Administration Manager at offices listed in the Appendix.

Notification Procedures:

Any individual who wants to know whether this system of records contains a record about him or her, who wants access to his or her record, or who wants to contest the contents of a record, should make a written request to EPA FOIA Office, Attn: Privacy Act Officer, 1200 Pennsylvania Avenue, MC2822T, NW., and Washington, DC 20460.

Access Procedure:

Requesters will be required to provide adequate identification, such as a driver's license, EPA identification card, or other identifying document. Additional identification procedures may be required in some instances.

Contesting Procedure:

Requests for correction or amendment must identify the record to be changed and the corrective action sought. Requests for name changes must be accompanied by a copy of a current redacted SF-50, “Request for Personnel Action”. The information contained in the fields identified by the following item numbers must be provided on the redacted form:

1. Name (Last, First, Middle).

2. Social Security Number.

4. Effective Date.

5. First Action (all fields, A-F).

6. Second Action (all fields, A-F).

7. FROM: Position Title and Number.

14. Name and Location of Position's Organization.

15. TO: Position Title and Number.

22. Name and Location of Position's Organization.

38. Duty Station Code.

39. Duty Station.

46. Employing Department or Agency.

47. Agency Code.

48. Personnel Office ID.

49. Approval Date.

50. Signature/Authentication and Title of Approving Official.

Complete EPA Privacy Act procedures are set out in 40 CFR part 16.

Record Source Categories:

Information from EPA Form 5110-1 and EPA Form 1480-39 provided by applicant is entered manually into the central command center database.

System exempted from certain provisions of the Privacy Act:

None.

Appendix

Region 1: 1 Congress Street, Suite 1100, Boston, MA 02114-2023.

Region 2: 290 Broadway, New York, NY 10007-1866.

Region 3: 1650 Arch Street, Philadelphia, PA 19103-2029.

Region 4: 61 Forsyth Street, SW., Atlanta, GA 30303-3104.

Region 5: 77 West Jackson Boulevard, Chicago, IL 60604-3507.

Region 6: Fountain Place 12th Floor, Suite 1200, 1445 Ross Avenue, Dallas, TX 75202-2733.

Region 7: 901 North 5th Street, Kansas City, KS 66101.

Region 8: 999 18th Street, Suite 300, Denver, CO 80202-2466

Region 9: 75 Hawthorne Street, San Francisco, CA 94105.

Region 10: 1200 Sixth Avenue, Seattle, WA 98101.

[FR Doc. 06-7318 Filed 8-30-06; 8:45 am]

BILLING CODE 6560-50-P